DEPARTMENT OF HOMELAND SECURITY

Federal Emergency Management Agency

44 CFR Part 67

[Docket ID FEMA-2008-0020; Internal Agency Docket No. FEMA-B-1054]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents and others to calculate appropriate flood insurance premium rates for new buildings and the contents in those buildings.

DATES: Comments are to be submitted on or before September 30, 2009.

ADDRESSES: The corresponding preliminary Flood Insurance Rate Map (FIRM) for the proposed BFEs for each community is available for inspection at the community's map repository. The respective addresses are listed in the table below.

You may submit comments, identified by Docket No. FEMA-B-1054, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton Jr., Chief, Engineering Management Branch, Mitigation Directorate, Federal Emergency Management Agency, 500 C Street, SW., Washington, DC 20472, (202) 646-3151, or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation * * | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Lee County, Alabama, and Incorporated Areas
Bird Creek | The confluence with Saugahatchee Creek | None | +507 | Unincorporated Areas of Lee County.
| Approximately 1.9 miles upstream of the confluence with Saugahatchee Creek | None | +537
Branch 1 of Saugahatchee Creek | The confluence with Saugahatchee Creek | None | +574 | City of Auburn.
| Approximately 622 feet upstream of Dunford Avenue | None | +673
Branch 1 of Saugahatchee Creek Tributary 1 | The confluence with Branch 1 of Saugahatchee Creek | None | +594 | City of Auburn.
| Approximately 1,505 feet upstream of Shug Jordan Parkway | None | +646
Branch 1 of Saugahatchee Creek Tributary 2 | The confluence with Branch 1 of Saugahatchee Creek | None | +607 | City of Auburn.
| Approximately 1,440 feet upstream of Boykin Road | None | +678
Branch 2 of Saugahatchee Creek | The confluence with Saugahatchee Creek | None | +578 | City of Auburn, Unincorporated Areas of Lee County.
| Approximately 640 feet of upstream of Gatewood Drive | None | +693
Branch 2 of Saugahatchee Creek Tributary 1 | The confluence with Branch 2 of Saugahatchee Creek | None | +584 | City of Auburn, Unincorporated Areas of Lee County.
| Approximately 2,553 feet upstream of the confluence | None | +632
Branch 2 of Saugahatchee Creek Tributary 2 | The confluence with Branch 2 of Saugahatchee Creek | None | +594 | City of Auburn.
| Approximately 1,581 feet upstream of North Cary Drive | None | +652
Branch 2 of Saugahatchee Creek Tributary 3 | The confluence with Branch 2 of Saugahatchee Creek | None | +606 | City of Auburn.
| Approximately 171 feet upstream of North Dean Road | None | +716
Branch 2 of Saugahatchee Creek Tributary 3.1 | The confluence with Branch 2 of Saugahatchee Creek Tributary 3 | None | +637 | City of Auburn.
| Approximately 801 feet upstream of Hollins Road | None | +707
Branch 2 of Saugahatchee Creek Tributary 4 | The confluence with Branch 2 of Saugahatchee Creek | None | +673 | City of Auburn.
| Approximately 201 feet upstream of Rick Drive | None | +726
Branch of Parkerson Mill Creek | Approximately 471 feet downstream of Timberwood Drive | None | +441 | Unincorporated Areas of Lee County, City of Auburn.
| Approximately 39 feet upstream of Timberwood Drive | None | +447
Chewacla Creek | Approximately 1,500 feet upstream of the Lee County boundary | None | +354 | City of Auburn, Unincorporated Areas of Lee County.
| Approximately 3,592 feet upstream of Lee Road 112 | None | +557
Chewacla Creek Tributary 12 | The confluence with Chewacla Creek | None | +550 | Unincorporated Areas of Lee County.
| Approximately 2,807 feet upstream of Johnson Lake earthen dam | None | +558
Chewacla Creek Tributary 14 | The confluence with Chewacla Creek | None | +539 | Unincorporated Areas of Lee County.
| Approximately 2,999 feet upstream of the confluence | None | +548
Chewacla Creek Tributary 15 | The confluence with Chewacla Creek | None | +533 | Unincorporated Areas of Lee County.
| Approximately 4,154 feet upstream of the confluence | None | +555
Chewacla Creek Tributary 23 | The confluence with Chewacla Creek | None | +436 | City of Auburn, Unincorporated Areas of Lee County.
| Approximately 157 feet upstream of Springhill Drive | None | +484
Chewacla Creek Tributary 29 | The confluence with Chewacla Creek | None | +369 | Unincorporated Areas of Lee County.
| Approximately 3,138 feet upstream of the confluence with Chewacla Creek | None | +384
Choctafaula Creek | Approximately 505 feet upstream of the Lee County boundary | None | +375 | City of Auburn, Unincorporated Areas of Lee County.
| Approximately 1.5 miles upstream of Beehive Road | None | +474
Choctafaula Creek Tributary 10 | The confluence with Choctafaula Creek | None | +468 | Unincorporated Areas of Lee County.
| Approximately 1,552 feet upstream of earthen dam | None | +534
Choctafaula Creek Tributary 10.1 | The confluence with Choctafaula Creek | None | +487 | Unincorporated Areas of Lee County.
| Approximately 2,848 feet upstream of the confluence | None | +527
Choctafaula Creek Tributary 9 | The confluence with Choctafaula Creek | None | +465 | City of Auburn, Unincorporated Areas of Lee County.
| Approximately 1.7 feet upstream of Wire Road | None | +632
Cossey Branch | Approximately 1,954 feet upstream of the Lee County boundary | None | +356 | Unincorporated Areas of Lee County.
| Approximately 1.1 miles upstream of Hwy 29 | None | +452
Cossey Branch Tributary 5 | The confluence with Cossey Branch | None | +380 | Unincorporated Areas of Lee County.
| Approximately 5,610 upstream of the confluence | None | +403
Cossey Branch Tributary 8 | The confluence with Cossey Branch | None | +407 | Unincorporated Areas of Lee County.
| Approximately 1.0 miles upstream of the confluence with Cossey Branch | None | +428
Halawakee Creek Tributary 8 | The confluence with Halawakee Creek | None | +645 | City of Opelika, Unincorporated Areas of Lee County.
| Approximately 2,282 feet upstream of Jeter Avenue | None | +748
Halawakee Creek Tributary 8.5 | The confluence with Halawakee Creek Tributary 8 | None | +649 | City of Opelika.
| Approximately 2,000 feet upstream of the confluence | None | +653
Halawakee Creek Tributary 8.6 | The confluence with Halawakee Creek Tributary 8 | None | +668 | City of Opelika.
| Approximately 254 feet upstream of US Hwy 280 | None | +677
Halawakee Creek Tributary 8.7 | The confluence with Halawakee Creek Tributary 8 | None | +679 | City of Opelika.
| Approximately 1,067 feet upstream of South Fox Run Parkway | None | +712
Halawakee Creek Tributary 8.7.3 | The confluence with Halawakee Creek Tributary 8.7 | None | +693 | City of Opelika.
| Approximately 4,500 feet upstream of the confluence | None | +718
Halawakee Creek Tributary 8.8 | The confluence with Halawakee Creek Tributary 8 | None | +679 | City of Opelika.
| Approximately 269 feet upstream of Jeter Avenue | None | +707
Halawakee Tributary 8.7.1 | The confluence with Halawakee Creek Tributary 8.7 | None | +689 | City of Opelika.
| Approximately 2,538 feet upstream of the confluence | None | +707
Halawakee Tributary 8.7.2 | The confluence with Halawakee Creek Tributary 8.7 | None | +693 | City of Opelika.
| Approximately 1,585 feet upstream of Hwy 51 | None | +717
Little Loblockee Creek | The confluence with Loblockee Creek | None | +598 | City of Auburn, Unincorporated Areas of Lee County.
| Approximately 2.2 miles upstream of Hwy 280 | None | +701
Loblockee Creek | The confluence with Saugahatchee Creek | None | +522 | Unincorporated Areas of Lee County.
| Approximately 11,694 feet upstream of US Hwy 280 | None | +686
Loblockee Creek Tributary 12 | The confluence with Loblockee Creek | None | +612 | Unincorporated Areas of Lee County.
| Approximately 3,748 feet upstream of the confluence | None | +631
Loblockee Creek Tributary 3 | The confluence with Loblockee Creek | None | +562 | Unincorporated Areas of Lee County, City of Auburn.
| Approximately 2.0 miles upstream of Farmville Road | None | +666
Miles Creek | Approximately 188 feet upstream of the Lee County boundary | None | +386 | Unincorporated Areas of Lee County.
| Approximately 881 feet upstream of County Road 393 | None | +458
Moore's Mill Creek | The confluence with Chewacla Creek | None | +414 | Unincorporated Areas of Lee County, City of Auburn, City of Opelika.
| Approximately 2.0 miles upstream of Bent Creek Road | None | +687
Moore's Mill Creek Tributary 2 | The confluence with Moore's Mill Creek | None | +527 | City of Auburn.
| Approximately 1,561 feet upstream of VFW Road | None | +609
Moore's Mill Creek Tributary 3 | The confluence with Moore's Mill Creek | None | +531 | City of Auburn.
| Approximately 86 feet upstream of earthen dam | None | +594
Moore's Mill Creek Tributary 4 | The confluence with Moore's Mill Creek | None | +543 | City of Auburn.
| Approximately 1,135 feet upstream of Core Drive | None | +608
Moore's Mill Creek Tributary 5 | The confluence with Moore's Mill Creek | None | +553 | City of Auburn.
| Approximately 85 feet upstream of Lauren Lane | None | +628
Moore's Mill Creek Tributary 6 | The confluence with Moore's Mill Creek | None | +573 | City of Auburn.
| Approximately 562 feet upstream of Burke Place | None | +706
Moore's Mill Creek Tributary 6.2 | The confluence with Moore's Mill Creek Tributary 6 | None | +618 | City of Auburn.
| Approximately 3,057 feet upstream of East University Drive | None | +707
Nash Creek | The confluence with Chewacla Creek | None | +495 | City of Auburn, Unincorporated Areas of Lee County.
| Approximately 142 feet upstream of Society Hill Road | None | +548
Nash Creek Tributary 1 | The confluence with Nash Creek | None | +537 | City of Auburn, Unincorporated Areas of Lee County.
| Approximately 2,366 feet upstream of the confluence | None | +578
Odom Creek | The confluence with Cossey Branch | None | +412 | Unincorporated Areas of Lee County.
| Approximately 1.2 miles upstream of County Road 27 | None | +447
Parkerson Mill Creek | The confluence with Chewacla Creek | +394 | +387 | City of Auburn, Unincorporated Areas of Lee County.
| Approximately 2,604 feet upstream of Wire Road | None | +645
Parkerson Mill Creek Tributary 10 | The confluence with Parkerson Mill Creek | None | +597 | City of Auburn.
| Approximately 2,801 feet upstream of the confluence | None | +650
Parkerson Mill Creek Tributary 3 | The confluence with Parkerson Mill Creek | None | +514 | City of Auburn, Unincorporated Areas of Lee County.
| Approximately 1,469 feet upstream of Longleaf Drive | None | +576
Parkerson Mill Creek Tributary 6 | The confluence with Parkerson Mill Creek | None | +527 | City of Auburn, Unincorporated Areas of Lee County.
| Approximately 367 feet upstream of Webster Road | None | +657
Parkerson Mill Creek Tributary 6.1 | The confluence with Parkerson Mill Creek Tributary 6 | None | +606 | City of Auburn, Unincorporated Areas of Lee County.
| Approximately 339 feet upstream of Webster Road | None | +637
Parkerson Mill Creek Tributary 6.2 | The confluence with Parkerson Mill Creek Tributary 6 | None | +587 | City of Auburn, Unincorporated Areas of Lee County.
| Approximately 116 feet upstream of Raptor Road | None | +631
Parkerson Mill Creek Tributary 7 | The confluence with Parkerson Mill Creek | None | +530 | City of Auburn.
| Approximately 1,557 feet upstream of the confluence with Parkerson Mill Creek Tributary 7 | None | +566
Parkerson Mill Creek Tributary 7.1 | The confluence with Parkerson Mill Creek Tributary 7 | None | +546 | City of Auburn.
| Approximately 538 feet upstream of earthen dam | None | +569
Parkerson Mill Creek Tributary 9 | The confluence with Parkerson Mill Creek | None | +568 | City of Auburn.
| Approximately 157 feet upstream of Shug Jordan Parkway | None | +687
Pepperell Creek | Approximately 120 feet upstream of Gateway Drive | None | +710 | City of Opelika.
| Approximately 68 feet upstream of Fruitland Avenue | None | +753
Pepperell Creek Tributary 4 | The confluence with Pepperell Creek | None | +707 | City of Opelika.
| Approximately 2,554 feet upstream of U.S. Hwy 280 | None | +753
Pepperell Creek Tributary 5 | The confluence with Pepperell Creek | None | +711 | City of Opelika.
| Approximately 601 feet upstream of the confluence | None | +711
Pepperell Creek Tributary 7 | The confluence with Pepperell Creek | None | +723 | City of Opelika.
| Approximately 742 feet upstream of South Long Street | None | +740
Pepperell Creek Tributary 8 | The confluence with Pepperell Creek | None | +726 | City of Opelika.
| Approximately 158 feet upstream of Hurst Street | None | +740
Robinson Creek | The confluence with Chewacla Creek | None | +557 | Unincorporated Areas of Lee County.
| Approximately 2.6 miles upstream of Moores Mill Road | None | +618
Rocky Creek | Approximately 1,370 feet downstream of India Road | None | +717 | City of Opelika.
| Approximately 279 feet upstream of Rocky Brook Road | None | +752
Rocky Creek Tributary 6 | The confluence with Rocky Creek | None | +683 | City of Opelika.
| Approximately 271 feet upstream of Bonita Avenue | None | +720
Rocky Creek Tributary 7 | The confluence with Rocky Creek | None | +696 | City of Opelika.
| Approximately 146 feet upstream of Preston Street | None | +776
Rocky Creek Tributary 9 | The confluence with Rocky Creek | None | +719 | City of Opelika.
| Approximately 1,246 feet upstream of the confluence | None | +734
Saugahatchee Creek 34.4 | The confluence with Saugahatchee Creek Tributary 34 | None | +589 | City of Auburn.
| Approximately 3,190 feet upstream of Willow Creek Road | None | +641
Saugahatchee Creek 34.5 | The confluence with Saugahatchee Creek Tributary 34 | None | +590 | City of Auburn, Unincorporated Areas of Lee County.
| Approximately 5,000 feet upstream of the confluence | None | +658
Saugahatchee Creek 34.5.2 | The confluence with Saugahatchee Creek Tributary 34.5 | None | +599 | City of Auburn.
| Approximately 2,000 feet upstream of the confluence | None | +621
Saugahatchee Creek 34.7 | The confluence with Saugahatchee Creek Tributary 34 | None | +642 | City of Auburn.
| Approximately 1,115 feet upstream of Martin Luther King Drive | None | +669
Saugahatchee Creek Tributary 18 | The confluence with Saugahatchee Creek | None | +613 | City of Opelika, Unincorporated Areas of Lee County.
| Approximately 711 feet upstream of railroad | None | +721
Saugahatchee Creek Tributary 29 | The confluence with Saugahatchee Creek | None | +571 | City of Auburn, Unincorporated Areas of Lee County.
| Approximately 3,331 feet upstream of the confluence with Saugahatchee Creek | None | +642
Saugahatchee Creek Tributary 34 | The confluence with Saugahatchee Creek | None | +553 | City of Auburn, Unincorporated Areas of Lee County.
| Approximately 1.7 miles upstream of the confluence with Saugahatchee Creek | None | +688
Saugahatchee Creek Tributary 34.3 | The confluence with Saugahatchee Creek Tributary 34 | None | +568 | City of Auburn, Unincorporated Areas of Lee County.
| Approximately 3,949 feet upstream of the confluence | None | +614
Saugahatchee Creek Tributary 44 | The confluence with Saugahatchee Creek | None | +540 | Unincorporated Areas of Lee County.
| Approximately 9,127 feet upstream of the confluence | None | +573
Town Creek | The confluence with Chewacla Creek | None | +401 | City of Auburn, Unincorporated Areas of Lee County.
| Approximately 796 feet upstream of Thach Avenue | None | +601
Town Creek Tributary 1 | The confluence with Town Creek | None | +460 | City of Auburn, Unincorporated Areas of Lee County.
| Approximately 602 feet upstream of Donahue Drive | None | +589
Town Creek Tributary 2 | The confluence with Town Creek | None | +512 | City of Auburn.
| Approximately 1,319 feet upstream of Janabrooke Lane | None | +540
Town Creek Tributary 3 | The confluence with Town Creek | None | +584 | City of Auburn.
| Approximately 112 feet upstream of East University Drive | None | +614
Town Creek Tributary 4 | The confluence with Town Creek | None | +590 | City of Auburn.
| Approximately 404 feet upstream of College Street | None | +654
Town Creek Tributary 6 | The confluence with Town Creek | None | +631 | City of Auburn.
| Approximately 331 feet upstream of Thach Avenue | None | +656
Unnamed Tributary 2 | Approximately 120 feet upstream of the Lee County boundary | None | +372 | Unincorporated Areas of Lee County.
| Approximately 1,500 feet upstream of the Lee County boundary | None | +384
Untamed Tributary 1 | Approximately 52 feet upstream of the Lee County boundary | None | +376 | Unincorporated Areas of Lee County.
| Approximately 976 feet upstream of the Lee County boundary | None | +400
Webb Branch | The confluence with Loblockee Creek | None | +594 | Unincorporated Areas of Lee County.
| Approximately 2.7 miles upstream of Farmville Road | None | +655
Webb Branch Tributary 3 | The confluence with Webb Branch | None | +599 | Unincorporated Areas of Lee County.
| Approximately 2,340 feet upstream of the confluence | None | +606
Webb Branch Tributary 4 | The confluence with Webb Branch | None | +611 | Unincorporated Areas of Lee County.
| Approximately 2,461 feet upstream of the confluence | None | +624
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Auburn
Maps are available for inspection at 144 Tichenor Avenue, Suite 1, Auburn, AL 36830.
City of Opelika
Maps are available for inspection at the Planning Department, 700 Fox Trail, Opelika, AL 36803.
Unincorporated Areas of Lee County
Maps are available for inspection at 909 Avenue A, Opelika, AL 36801.
Carroll County, Illinois, and Incorporated Areas
Lake Carroll | Bounded within the Lake Carroll Blvd. loop | None | +746 | Unincorporated Areas of Carroll County.
Mississippi River | Approximately 1.1 mile downstream of Fairhaven Road extended (approximately 524.8 miles upstream of the confluence with the Ohio River) | +594 | +593 | Unincorporated Areas of Carroll County.
| Approximately 500 feet upstream of Fairhaven Road extended (approximately 526 miles upstream of the confluence with the Ohio River) | +594 | +593
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Carroll County
Maps are available for inspection at the Carroll County Courthouse, 301 North Main Street, Mount Carroll, IL 61053.
Lincoln County, Nevada, and Incorporated Areas
Clover Creek | Approximately 280 feet upstream of confluence with Meadow Valley Wash (Near Caliente) | +4404 | +4409 | Unincorporated Areas of Lincoln County, City of Caliente.
| Approximately 2.4 miles upstream of confluence with Meadow Valley Wash (Near Caliente) | None | +4473
Meadow Valley Wash (Near Caliente) | Approximately 0.73 mile downstream of Union Pacific Railroad | None | # 2 | Unincorporated Areas of Lincoln County, City of Caliente.
| Approximately 1,540 feet downstream of Union Pacific Railroad | None | # 3
| Approximately 0.73 mile downstream of Union Pacific Railroad | +4329 | +4329
| Approximately 674 feet upstream of U.S. Hwy 93 | +4437 | +4438
Meadow Valley Wash (Near Ursine) | Approximately 1.0 mile downstream of North Eagle Valley Rd | None | +5543 | Unincorporated Areas of Lincoln County.
| Approximately 1150 feet upstream of North Eagle Valley Rd | None | +5607
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Caliente
Maps are available for inspection at 100 Depot Avenue, Caliente, NV 89008.
Unincorporated Areas of Lincoln County
Maps are available for inspection at the Lincoln County. Planning and Zoning Department, 181 Main Street, Suite 107, Pioche, NV 89043.
Davison County, South Dakota, and Incorporated Areas
Dry Run Creek | Approximately 1,554 feet downstream of SD Highway 38 | +1263 | +1254 | Unincorporated Areas of Davison County, City of Mitchell.
| Approximately 2,578 feet upstream of 407th Avenue | +1302 | +1303
James River | Approximately 1,632 feet downstream of SD Highway 38 | None | +1223 | Unincorporated Areas of Davison County, City of Mitchell.
| Approximately 2.33 miles upstream from 245th Street | None | +1226
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Mitchell
Maps are available for inspection at 612 North Main Street, Mitchell, SD 57301.
Unincorporated Areas of Davison County
Maps are available for inspection at 200 East 4th Avenue, Mitchell, SD 57301.

(Catalog of Federal Domestic Assistance No. 97.022, “Flood Insurance.”)

Dated: June 15, 2009.
Edward L. Connor,
Acting Assistant Administrator, Mitigation Directorate, Department of Homeland Security, Federal Emergency Management Agency.

[FR Doc. E9-15673 Filed 7-1-09; 8:45 am]

BILLING CODE 9110-12-P